AFRICAN DEVELOPMENT FOUNDATION

Sunshine Act Meeting

Board of Directors Meeting.

TIME: 10:00 a.m.-2:30 p.m.

PLACE: ADF Headquarters.

DATE: Friday, August 31, 2001.

STATUS: Open.

Agenda

10:00 a.m.-10:30 a.m.—Chairman's Report

10:30 a.m.-12:00 pm.—President's Report

12:00 p.m.-1:00 p.m.—Lunch

1:00 p.m.-2:30 p.m.—Executive Session (Closed)

2:30 p.m.—Adjournment

If you have any questions or comments, please direct them to Doris Martin, General Counsel, who can be reached at (202) 673-3916.

Nathaniel Fields,
President.

[FR Doc. 01-20996 Filed 8-16-01; 11:35 am]

BILLING CODE 6117-01-P